DEPARTMENT OF THE INTERIOR

Bureau of Land Management

[NM-010-1310-EU; NM 101522/G010-G0-00254]

Notice of Intent To Prepare Two Environmental Impact Statements and Conduct Scoping Meeting; Land Exchanges With the Pueblos of Santo Domingo and San Felipe, Sandoval and Santa Fe Counties, New Mexico

AGENCY: Bureau of Land Management, Interior.

ACTION: Notice (AMENDMENT). Federal Register Notice (64 FR 216) published in the issue dated November 9, 1999 is amended to include the following additional federal lands:

New Mexico Principle Meridian

T. 12 N., R. 6 E.,

Sec. 7, lots 3 to 6, inclusive;

Sec. 10, E½NE¼NE¼W½SW¼NE¼, S½NW¼, N½SW¼, SE¼SW¼ and W½SE¼;

Sec. 11, NW¼NW¼;

Sec. 17, N½N½, SE¼NE¼ and NE¼SE¼;

Sec. 18, NE¼;

Sec. 21, N½NE¼ and SE¼NE¼;

Sec. 22, lots 1 to 4, inclusive, S½N½ and NW¼NW¼;

Sec. 23, lots 1 to 4, inclusive.

Containing 1,477 acres, more or less.

Dated: June 28, 2000.
Deborah Charley,
Acting Albuquerque Field Manager.

[FR Doc. 00-18382 Filed 9-1-00; 8:45 am]

BILLING CODE 4310-AG-M